DEPARTMENT OF EDUCATION

Office of Special Education and Rehabilitative Services, Overview Information; Assistive Technology Act of 1998, as Amended—National Activities—National Assistive Technology Training and Technical Assistance Program; Notice Inviting Applications for New Awards for Fiscal Year (FY) 2005

Catalog of Federal Domestic Assistance (CFDA) Number: 84.224B-1.

DATES: Applications Available: July 19, 2005.

Deadline for Transmittal of Applications: August 18, 2005. Deadline for Intergovernmental Review: August 29, 2005.

Eligible Applicants: Public or private nonprofit or for-profit organizations, including institutions of higher education, that have (directly or through grant or contract) (1) experience and expertise in administering programs, including developing, implementing, and administering the required and discretionary activities described in sections 4 and 5 of the Assistive Technology Act of 1998, as amended (AT Act); (2) experience and expertise in providing technical assistance; and (3) documented experience in and knowledge about banking, finance, and microlending. This means that an eligible entity can demonstrate its experience and expertise on its own or through proposed subgrants or subcontracts with other entities that demonstrate the relevant experience and expertise.

Estimated Available Funds: $640,000.

Estimated Number of Awards: 1.

Note: The Department is not bound by any estimates in this notice.

Project Period: Up to 60 months.

Full Text of Announcement

I. Funding Opportunity Description

Purpose of Program: The AT Act authorizes support for activities that increase the availability of, funding for, access to, provision of, and training about assistive technology (AT) devices and AT services. The AT Act authorizes the Secretary to provide grants to States to support comprehensive statewide AT programs (Statewide AT Programs) that improve access to and the acquisition of AT devices and services for individuals with disabilities and their families. The AT Act also authorizes the Secretary to provide grants to protection and advocacy systems in order to enable these systems to assist in the acquisition, use, or maintenance of AT devices and services (PAAT). Under section 6 of the AT Act, the Secretary is authorized to provide grants to support national activities to improve the administration of the AT Act, such as the provision of training and technical assistance to entities funded under the AT Act to improve the effectiveness of their programs and to entities not funded under the AT Act to improve awareness of and access to AT. Other national activities include data collection and assistance and a National Public Internet Site. In addition, a provision in section 4 of the AT Act authorizes grants to States for Alternative Financing Programs (AFPs) in accordance with title III of the AT Act, as in effect before the enactment of the amendments in 2004, to pay for the Federal share of the cost of establishing, or expanding, and administering one or more alternative financing mechanisms to allow individuals with disabilities and their families to purchase AT devices and services. Title III, section 306, of the AT Act, as in effect prior to the enactment of the amendments of 2004, requires that information and technical assistance be provided to AFPs. Under section 308(b) of the AT Act, as in effect prior to the enactment of the amendments of 2004, the Secretary reserves funds from any appropriation for title III for this purpose. In years when those funds are appropriated, additional funds for technical assistance to AFPs will be available.

Priority: We are establishing this priority for the FY 2005 grant competition only, in accordance with section 437(d)(1) of the General Education Provisions Act (GEPA).

Absolute Priority: For FY 2005 this priority is an absolute priority. Under 34 CFR 75.105(c)(3) we consider only applications that meet this priority.

This priority is:

National Assistive Technology Training and Technical Assistance Program (National AT TA Program)

This priority is for a project to provide technical assistance and training to entities funded under the AT Act and entities not funded under the AT Act to improve the effectiveness of activities supported under the AT Act.

If the applicant chooses to award subgrants or subcontracts to carry out activities required under this priority, the applicant's proposal must reflect clearly how the applicant will collaborate with any entities to which the applicant will provide a subgrant or subcontract in order to ensure that activities conducted by those entities meet the requirements of this priority and are consistent with the applicant's proposal. The project must—

(1) Address State-specific information requests concerning AT from entities funded under the AT Act and public entities not funded under the AT Act, including—

(a) Requests for information on effective approaches to Federal-State coordination of programs for individuals with disabilities, related to improving funding for or access to AT devices and AT services for individuals with disabilities of all ages;

(b) Requests for state-of-the-art, or model, Federal, State, and local laws, regulations, policies, practices, procedures, and organizational structures, that facilitate, and overcome barriers to, funding for, and access to, AT devices and AT services;

(c) Requests for information on effective approaches to developing, implementing, evaluating, and sustaining activities described in sections 4 and 5 of the AT Act and related to improving funding for or access to AT devices and AT services for individuals with disabilities of all ages, and requests for assistance in developing corrective action plans;

(d) Requests for examples of policies, practices, procedures, regulations, or judicial decisions that have enhanced or may enhance access to funding for AT devices and AT services for individuals with disabilities;

(e) Requests for information on effective approaches to the development of consumer-controlled systems that increase access to, funding for, and awareness of, AT devices and AT services; and

(f) Other requests for training and technical assistance from entities funded under the AT Act and public and private entities not funded under the AT Act;

(2) Assist targeted individuals and entities by disseminating information about—

(a) Federal, State, and local laws, regulations, policies, practices, procedures, and organizational structures, that facilitate, and overcome barriers to, funding for, and access to, AT devices and AT services, to promote fuller independence, productivity, and inclusion in society for individuals with disabilities of all ages; and

(b) Technical assistance activities undertaken under paragraph (1) of this priority;

(3) Provide State-specific, regional, and national training and technical assistance concerning AT to entities funded under the AT Act and to public and private entities not funded under the AT Act, including—

(a) Annually providing a forum for exchanging information concerning, and promoting program and policy improvements in, required activities of the Statewide AT Programs, AFPs, and PAAT programs;

(b) Facilitating onsite and electronic information sharing using state-of-the-art Internet technologies such as real-time online discussions, multipoint video conferencing, and Web-based audio/video broadcasts, on emerging topics that affect Statewide AT Programs, AFPs, and PAAT programs;

(c) Convening experts from Statewide AT Programs, AFPs, PAAT programs, representatives of organizations representing individuals with disabilities and their families, representatives of Federal agencies, researchers in AT, and AT developers and venders to discuss and make recommendations with regard to national emerging issues of importance to individuals with AT needs;

(d) Sharing information on evidence-based and promising practices among Statewide AT Programs, AFPs, and PAAT programs;

(e) Maintaining an accessible Web site that includes links to Statewide AT Programs, AFPs, PAAT programs, appropriate Federal departments and agencies, the National Public Internet Site funded under section 6 of the AT Act, and private associations;

(f) Developing a national toll-free number that links callers from any State with the Statewide AT Program, AFP, and PAAT program in their State;

(g) Assisting Statewide AT Programs to reduce the costs of AT through the development or use of existing model cooperative volume-purchasing mechanisms;

(h) Assisting Statewide AT Programs, AFPs, and PAAT programs to reduce the duplication of their activities;

(i) Providing access to experts in the areas of banking, microlending, and finance for entities funded under the AT Act and other entities not funded under the AT Act;

(j) Assisting Statewide AT Programs in achieving the measurable goals required by section 4(d)(3) of the AT Act;

(k) Facilitating collaboration at the National and State level among Statewide AT Programs, AFPs, PAATs, and other entities involved in AT; and

(l) Facilitating consumer involvement in Statewide AT Programs, AFPs, and PAATs at the national and State level;

(4) Collaborate with other projects funded under section 6 of the AT Act;

(5) Conduct outreach to and collaborate with relevant Federal, State, and local programs and projects that increase access to AT, including programs that increase access to AT in education, employment, community living, and telecommunications and information technology;

(6) Provide to the Secretary the data and information necessary to improve the administration of the AT Act and to evaluate the project's progress in accordance with the performance measures in section VI. 4. Performance Measures of this notice;

(7) Include plans for designing and providing training and technical assistance with the input of—

(a) Directors of Statewide AT Programs;

(b) Directors of AFPs;

(c) Directors of PAAT programs;

(d) Individuals with disabilities who use AT and understand the barriers to the acquisition of that technology and AT services;

(e) Family members, guardians, advocates, and authorized representatives of individuals with disabilities who use AT;

(f) Relevant employees from Federal departments and agencies, other than the Department of Education;

(g) Representatives of businesses; and

(h) Venders and public and private researchers and developers; and

(8) Include plans for evaluating the effectiveness of the technical assistance and training program in accordance with the performance measures in section VI. 4. Performance Measures of this notice.

Waiver of Proposed Rulemaking: Under the Administrative Procedure Act (5 U.S.C. 553) the Department generally offers interested parties the opportunity to comment on proposed priorities. Ordinarily, this practice would have applied to the absolute priority for the National AT TA Program. Section 437(d)(1) of GEPA (20 U.S.C. 1232(d)(1)), however, allows the Secretary to exempt from rulemaking requirements regulations governing the first grant competition under a new or substantially revised program authority. This is the first grant competition for this program under section 6 of the AT Act and therefore qualifies for this exemption. In order to ensure timely grant awards, the Secretary has decided to forego public comment on the proposed absolute priority under section 437(d)(1). This absolute priority will apply to the FY 2005 grant competition only.

Program Authority: 29 U.S.C. 3001 et seq.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Estimated Available Funds: $640,000.

Estimated Number of Awards: 1.

Note: The Department is not bound by any estimates in this notice.

Project Period: Up to 60 months.

III. Eligibility Information

1. Eligible Applicants: Public or private nonprofit or for-profit organizations, including institutions of higher education, that have (directly or through grant or contract) (1) experience and expertise in administering programs, including developing, implementing, and administering the required and discretionary activities described in sections 4 and 5 of the AT Act; (2) experience and expertise in providing technical assistance; and (3) documented experience in and knowledge about banking, finance, and microlending. This means that an eligible entity can demonstrate its experience and expertise on its own or through proposed subgrants or subcontracts with other entities that demonstrate the relevant experience and expertise.

2. Cost Sharing or Matching: This program does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.224B-1.

Individuals with disabilities may obtain a copy of the application package in an alternative format (e.g., Braille, large print, audiotape, or computer diskette) by contacting the Grants and Contracts Services Team, U.S. Department of Education, 400 Maryland Avenue, SW., Room 5075, Potomac Center Plaza, Washington, DC 20202-2550. Telephone: (202) 245-7363. If you use a telecommunications device for the deaf (TDD), you may call the Federal Relay Service (FRS) at 1-800-877-8339.

2. Content and Form of Application Submission: Requirements concerning the content of an application, together with the forms you must submit, are in the application package for this competition.

Page Limit: The application narrative (Part III of the application) is where you, the applicant, address the selection criteria that reviewers use to evaluate your application. You must limit Part III to the equivalent of no more than 75 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

Our reviewers will not read any pages of your application that—

• Exceed the page limit if you apply these standards; or

• Exceed the equivalent of the page limit if you apply other standards.

3. Submission Dates and Times:

Applications Available: July 19, 2005.

Deadline for Transmittal of Applications: August 18, 2005.

Applications for grants under this competition may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements. Deadline for Intergovernmental Review: August 29, 2005.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date. Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the applicable following address:

By mail through the U.S. Postal Service:

U.S. Department of Education, Application Control Center, Attention: (CFDA Number 84.224B-1), 400 Maryland Avenue, SW., Washington, DC 20202-4260.

or

By mail through a commercial carrier:

U.S. Department of Education, Application Control Center—Stop 4260, Attention: (CFDA Number 84.224B-1), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.224B-1), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are provided in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act of 1993 (GPRA) directs Federal departments and agencies to improve the effectiveness of their programs by engaging in strategic planning, setting outcome-related goals for programs, and measuring program results against those goals. The goal of the National AT TA Program is to provide support to entities funded under the AT Act that improves the effectiveness of their programs and support to entities not funded under the AT Act to improve awareness of and access to assistive technology. In order to assess the success of the grantee in meeting these goals, in addition to other information the grantee's annual performance report must include (1) a description of State-specific and national technical assistance and training provided to support the improvement of Statewide AT Programs, PAAT programs, and AFPs, and the result of that technical assistance or training as evidenced by changes in the operation of Statewide AT Programs, PAAT programs, or AFPs or other relevant and identifiable changes; (2) a description of collaboration between the grantee and other entities involved in AT, and the result of that collaboration as evidenced by changes in the operation of the grantee or other entities, or other relevant and identifiable changes; (3) a description of the collaboration between the grantee and any entities to which the grantee provides a subcontract or subgrant, and the result of that collaboration as evidenced by improved delivery of technical assistance and training and improved collaboration between entities funded under the AT Act at the national and State level or other relevant and identifiable improvements; and (4) a description of how the technical assistance and training needs of entities funded under the AT Act and entities not funded under the AT Act are identified and met, and the result of meeting those needs as evidenced by resolution of State-specific and national issues or other relevant and identifiable outcomes.

VII. Agency Contact

FOR FURTHER INFORMATION CONTACT: Jeremy Buzzell, U.S. Department of Education, 400 Maryland Avenue, SW., Room 5025, Potomac Center Plaza, Washington, DC 20202-2800. Telephone: (202) 245-7319 or by e-mail: jeremy.buzzell@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 14, 2005.
John H. Hager,
Assistant Secretary for Special Education and Rehabilitative Services.

[FR Doc. 05-14191 Filed 7-18-05; 8:45 am]

BILLING CODE 4000-01-P